DEPARTMENT OF THE TREASURY

Community Development Financial Institutions Fund

Amendment of Notice of Allocation Availability (NOAA) for the CY 2006 Allocation Round of the New Markets Tax Credit Program

AGENCY: Community Development Financial Institutions Fund, Department of the Treasury.

ACTION: Additional information regarding the administration of New Markets Tax Credit allocation authority created by the Gulf Opportunity Zone Act of 2005.

SUMMARY: The Gulf Opportunity Zone Act of 2005 (GO Zone Act or Act) was signed into law on December 21, 2005 (Pub. L. 109-135). The GO Zone Act provides $1 billion of additional New Markets Tax Credit (NMTC) allocation authority for use by Community Development Entities (CDEs) with a significant mission of recovery and redevelopment of the Gulf Opportunity Zone (GO Zone). The Act makes available an additional $300 million in allocation authority for each of the calendar year (CY) 2005 and 2006 allocation rounds and an additional $400 million in allocation authority for the CY 2007 allocation round. Pursuant to Section 45D(f)(3) of the Internal Revenue Code, the Community Development Financial Institutions (CDFI) Fund will carry over the CY 2005 allocation authority to the CY 2006 allocation round that was announced by the Notice of Allocation Availability published on July 15, 2005 (70 FR 41075), as amended on September 14, 2005 (70 FR 54446) (together, the NOAA), such that an additional $600 million in allocation authority will be available for allocation to applicants in the CY 2006 round of the NMTC Program that satisfy the GO Zone allocation eligibility requirements set forth below.

Go Zone Allocation Eligibility: Through this notice, the CDFI Fund is not soliciting, nor will it accept, any new applications for the CY 2006 NMTC Program allocation round. To be eligible to receive an allocation from the $600 million of GO Zone allocation authority available in the CY 2006 NMTC Program allocation round, an applicant must meet all of the following criteria:

(i) The applicant must have submitted an allocation application by the deadline required by the NOAA (or by any deadline extension authorized by the CDFI Fund);

(ii) The applicant must have satisfied all eligibility requirements contained in the NOAA (including minimum scoring thresholds set forth in section V.B of the NOAA); and

(iii) The applicant must have a significant mission of recovery and redevelopment of the GO Zone. In order to demonstrate a “significant mission of recovery and redevelopment of the GO Zone,” a CDE must have, at a minimum: (A) Indicated (in its response to Question #12 of the allocation application) that the GO Zone is included within its particular geographic service area; (B) specified (in its response to Question #29 of the allocation application) that it intends to target activities to Low-Income Communities in certain Federal Emergency Management Agency (FEMA)-declared disaster areas; and (C) demonstrated to the satisfaction of the CDFI Fund that it has significant resources in the GO Zone to support its recovery and redevelopment efforts and a significant track record of providing financing and related services in the GO Zone.

The GO Zone is defined in the GO Zone Act as “that portion of the Hurricane Katrina disaster area determined by the President to warrant individual or individual and public assistance from the Federal Government under the Robert T. Stafford Disaster Relief and Emergency Assistance Act by reason of Hurricane Katrina” (Pub. L. 109-135, Section 101). The Hurricane Katrina Disaster Area is defined as “an area with respect to which a major disaster has been declared by the President before September 14, 2005, under section 401 of such Act by reason of Hurricane Katrina” (Pub. L. 109-135, Section 101).

The CDFI Fund will contact each CY 2006 NMTC applicant that satisfies items (iii)(A) and (B) above, and ask each such applicant to submit responses to a supplemental questionnaire that will help the CDFI Fund evaluate whether the applicant has a significant mission of recovery and redevelopment in the GO Zone. Such applicants must provide the CDFI Fund with responses to the supplemental questionnaire by the deadlines established by the CDFI Fund; failure to meet said deadlines will result in a determination of ineligibility for a GO Zone allocation.

After the CDFI Fund confirms that the GO Zone is included within an applicant's particular geographic service area and that the applicant intends to target activities to Low-Income Communities in certain FEMA-declared disaster areas, then the CDFI Fund reviewers will rate (i) whether the applicant has significant resources in the GO Zone to support its recovery and redevelopment efforts and (ii) the applicant's track record of providing financing and related services in the GO Zone.

In assessing whether the applicant has significant resources in the GO Zone to support its recovery and redevelopment efforts, reviewers will consider, among other things, the applicant's (or its Controlling Entity's) current physical presence in the GO Zone. In assessing an applicant's track record of providing financing and related services in the GO Zone, reviewers will consider, among other things, the applicant's (or its Controlling Entity's) track record of providing financing products and services in the GO Zone over the past five years.

Go Zone Allocation Determinations: The CDFI Fund will evaluate and score all applications, rank all applicants, and make final allocation determinations in accordance with the policies and procedures set forth in section V.B of the NOAA and this amendment. Final allocation determinations for the $3.5 billion in allocation authority described in the NOAA will be awarded prior to allocation determinations for the $600 million in GO Zone allocation authority. After the CDFI Fund has made its final allocation determinations for the $3.5 billion allocation authority, it will make final allocation determinations for the GO Zone allocation authority in rank order of score, with priority to those applicants that were rated as having the strongest significant mission of recovery and redevelopment of the GO Zone but were not selected to receive an allocation under the initial $3.5 billion of allocation authority. If allocation authority is still available, the CDFI Fund may provide additional GO Zone allocation authority to eligible applicants that were selected to receive an allocation from the initial $3.5 billion, provided the CDFI Fund determines that they have the capacity to administer additional allocation authority in the GO Zone. Unallocated GO Zone allocation authority, if any, will be carried over to the CY 2007 round of the NMTC Program, pursuant to IRC 45D(f)(3).

Go Zone Allocation Agreement Terms: All CDEs that are awarded GO Zone allocation authority will be required, as a condition of their allocation agreements with the CDFI Fund, to invest 100 percent of the Qualified Low-Income Community Investments (QLICIs) from the GO Zone allocation in the GO Zone. In addition, GO Zone CDEs will be required to maintain accountability to the GO Zone through their advisory or governing board representation. Additional terms and conditions for GO Zone allocation authority will be set forth in the allocation agreements.

All other information and requirements set forth in the NOAA shall remain effective, as published.

FOR FURTHER INFORMATION, CONTACT: Applications and other information regarding the Fund and its programs may be obtained from the Fund's Web site at http://www.cdfifund.gov. The Fund may post on its website additional information regarding the special GO Zone allocation authority. Applicants may contact the CDFI Fund with questions or to obtain technical assistance regarding the GO Zone allocation authority as follows:

A. Information technology support: Technical support can be obtained by calling (202) 622-2455 or by e-mail at ithelpdesk@cdfi.treas.gov. These are not toll free numbers.

B. Programmatic support: If you have any questions about the programmatic requirements of this NOAA amendment, contact the Fund's NMTC Program Manager by e-mail at cdfihelp@cdfi.treas.gov, by telephone at (202) 622-6355, by facsimile at (202) 622-7754, or by mail at CDFI Fund, 601 13th Street, NW, Suite 200 South, Washington, DC 20005. These are not toll-free numbers.

C. Administrative support: If you have any questions regarding the administrative requirements of this NOAA amendment, contact the Fund's Grants Manager by e-mail at grantsmanagement@cdfi.treas.gov, by telephone at (202) 622-8226, by facsimile at (202) 622-6453, or by mail at CDFI Fund, 601 13th Street, NW., Suite 200 South, Washington, DC 20005. These are not toll free numbers.

D. IRS support: For questions regarding the tax aspects of the NMTC Program, contact Branch Five, Office of the Associate Chief Counsel (Passthroughs and Special Industries), IRS, by telephone at (202) 622-3040, by facsimile at (202) 622-4753, or by mail at 1111 Constitution Avenue, NW., Attn: CC:PSI:5, Washington, DC 20224. These are not toll free numbers.

E. Legal counsel support: If you have any questions or matters that you believe require response by the Fund's Office of Legal Counsel, please refer to the document titled “How to Request a Legal Review,” found on the Fund's Web site at http://www.cdfifund.gov.

Authority: 26 U.S.C. 45D; 31 U.S.C. 321; 26 CFR 1.45D-1.

Dated: March 3, 2006.
Arthur A. Garcia,
Director, Community Development Financial Institutions Fund.

[FR Doc. E6-3372 Filed 3-9-06; 8:45 am]

BILLING CODE 4810-70-P